DEPARTMENT OF DEFENSE

Department of the Air Force

[Docket ID USAF-2008-0063]

Privacy Act of 1974; System of Records

AGENCY: Department of the Air Force, DoD.

ACTION: Notice to Delete a System of Records.

SUMMARY: The Department of the Air Force proposes to delete a system of records notice in its inventory of record systems subject to the Privacy Act of 1974 (5 U.S.C. 552a), as amended.

DATES: The changes will be effective on March 9, 2009 unless comments are received that would result in a contrary determination.

ADDRESSES: Send comments to the Air Force Privacy Act Officer, Office of Warfighting Integration and Chief Information Officer, SAF/XCISI, 1800 Air Force Pentagon, Suite 220, Washington, DC 20330-1800.

FOR FURTHER INFORMATION CONTACT: Mr. Kenneth Brodie at (703) 696-7557.

SUPPLEMENTARY INFORMATION: The Department of the Air Force systems of records notices subject to the Privacy Act of 1974, (5 U.S.C. 552a), as amended, have been published in the Federal Register and are available from the address above.

The Department of the Air Force proposes to delete a system of records notice in its inventory of record systems subject to the Privacy Act of 1974 (5 U.S.C. 552a), as amended. The proposed deletion is not within the purview of subsection (r) of the Privacy Act of 1974, (5 U.S.C. 552a), as amended, which requires the submission of a new or altered system report.

Dated: December 30, 2008.
Patricia L. Toppings,
OSD Federal Register Liaison Officer, Department of Defense.

F036 AFPC O

SYSTEM NAME:

Aviation Service Historical Data File (June 11, 1997, 62 FR 31793).

REASON:

This is a duplicate system that was integrated with F011 AF XO A, Aviation Resource Management System (ARMS) (December 26, 2002, 67 FR 78777). There should be only one system for historical Aviation Service Records.

[FR Doc. E9-40 Filed 1-6-09; 8:45 am]

BILLING CODE 5001-06-P